DEPARTMENT OF ENERGY

Federal Energy Regulatory Commission

Combined Notice of Filings #2

Take notice that the Commission received the following electric rate filings:

Docket Numbers: ER13-91-002.

Applicants: El Paso Electric Company.

Description: OATT Order No. 1000 Compliance Filing—Regional to be effective 12/31/9998.

Filed Date: 9/30/13.

Accession Number: 20130930-5176.

Comments Due: 5 p.m. ET 10/21/13.

Docket Numbers: ER14-1-000.

Applicants: Pacific Gas and Electric Company.

Description: COTP CIRS Compliance Filing to be effective 4/28/2010.

Filed Date: 10/1/13.

Accession Number: 20131001-5004.

Comments Due: 5 p.m. ET 10/22/13.

Docket Numbers: ER14-2-000.

Applicants: New York Independent System Operator, Inc.

Description: Long Island Grandfathered TCCs to be effective 11/30/2013.

Filed Date: 10/1/13.

Accession Number: 20131001-5046.

Comments Due: 5 p.m. ET 10/22/13.

Docket Numbers: ER14-3-000.

Applicants: New England Power Pool Participants Committee.

Description: New England Power Pool Participants Committee submits October 2013 Membership Filing to be effective 9/1/2013.

Filed Date: 10/1/13.

Accession Number: 20131001-5167.

Comments Due: 5 p.m. ET 10/22/13.

Docket Numbers: ER14-4-000.

Applicants: Camden County Energy Recovery Associates, L.P.

Description: Camden County Energy Recovery Associates, L.P. submits Category Seller Change to be effective 10/2/2013.

Filed Date: 10/1/13.

Accession Number: 20131001-5175.

Comments Due: 5 p.m. ET 10/22/13.

Docket Numbers: ER14-5-000.

Applicants: Pacific Gas and Electric Company.

Description: Notices of Termination of Pacific Gas and Electric Company for Petaluma Solar Millennium Fund, Service Agreement Nos. 180 and 181 under PG&E FERC Electric Tariff Volume No. 4.

Filed Date: 10/1/13.

Accession Number: 20131001-5179.

Comments Due: 5 p.m. ET 10/22/13.

Docket Numbers: ER14-6-000.

Applicants: PacifiCorp.

Description: PacifiCorp submits tariff filing per 35.15: Termination of WAPA Installation of Equipment for POI at Worland Tap Agmt to be effective 11/30/2013.

Filed Date: 10/1/13.

Accession Number: 20131001-5182.

Comments Due: 5 p.m. ET 10/22/13.

Docket Numbers: ER14-7-000.

Applicants: American Electric Power Service Corporation.

Description: Petition of American Electric Power Service Corporation for waiver of Commission fuel clause regulations, Section 35.14.

Filed Date: 10/1/13.

Accession Number: 20131001-5228.

Comments Due: 5 p.m. ET 10/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2013.
Nathaniel J. Davis, Sr.,
Deputy Secretary.

[FR Doc. 2013-24420 Filed 10-9-13; 8:45 am]

BILLING CODE 6717-01-P